DEPARTMENT OF HEALTH AND HUMAN SERVICES

Meeting of the National Biodefense Science Board

AGENCY: Office of the Secretary, Department of Health and Human Services.

ACTION: Notice.

SUMMARY: As stipulated by the Federal Advisory Committee Act, the U.S. Department of Health and Human Services (HHS) is hereby giving notice that the National Biodefense Science Board (NBSB) will be holding a public meeting via teleconference. The meeting is open to the public.

DATES: The NBSB will hold a public meeting on January 10, 2014, tentatively scheduled from 2:00 p.m. to 3:00 p.m. ET. The agenda is subject to change as priorities dictate.

ADDRESSES: Individuals who wish to participate should send an email to NBSB@HHS.GOV with “NBSB Registration” in the subject line. The meeting will occur by teleconference. To attend via teleconference and for further instructions, please visit the NBSB Web site at WWW.PHE.GOV/NBSB.

FOR FURTHER INFORMATION CONTACT: The National Biodefense Science Board mailbox: NBSB@HHS.GOV.

SUPPLEMENTARY INFORMATION: Pursuant to section 319M of the Public Health Service Act (42 U.S.C. 247d-7f) and section 222 of the Public Health Service Act (42 U.S.C. 217a), HHS established the NBSB. The NBSB provides expert advice and guidance to the Secretary on scientific, technical, and other matters of special interest to HHS regarding current and future chemical, biological, nuclear, and radiological agents, whether naturally occurring, accidental, or deliberate. The NBSB may also provide advice and guidance to the Secretary and/or the Assistant Secretary for Preparedness and Response (ASPR) on other matters related to public health emergency preparedness and response.

Background: This public meeting via teleconference will be dedicated to the NBSB's deliberation and vote on the findings from the NBSB's Public Health Emergency Medical Countermeasures Enterprise (PHEMCE) Strategic Preparedness Goals Working Group. Subsequent agenda topics will be added as priorities dictate. Any additional agenda topics will be available on the NBSB's January 10, 2014, meeting Web page, available at WWW.PHE.GOV/NBSB.

Availability of Materials: The meeting agenda and materials will be posted prior to the meeting on the January 10 meeting Web page at WWW.PHE.GOV/NBSB.

Procedures for Providing Public Input: Members of the public are invited to attend by teleconference via a toll-free call-in phone number which is available on the NBSB Web site at WWW.PHE.GOV/NBSB. All members of the public are encouraged to provide written comment to the NBSB. All written comments must be received prior to January 10, 2014, and should be sent by email to NBSB@HHS.GOV with “NBSB Public Comment” as the subject line. Public comments received by close of business one week prior to each teleconference will be distributed to the NBSB in advance.

Dated: December 6, 2013.
Nicole Lurie,
Assistant Secretary for Preparedness and Response.

[FR Doc. 2013-30106 Filed 12-17-13; 8:45 am]

BILLING CODE 4150-28-P